FEDERAL TRADE COMMISSION

16 CFR Part 4

Freedom of Information Act; Correction

AGENCY: Federal Trade Commission.

ACTION: Final rule; correction.

SUMMARY: The Federal Trade Commission published a final rule on February 28, 2013 revising its Rules of Practice governing access to agency records. In one of its amendatory instructions, the final rule mentioned a paragraph that was not being affected. This document makes a technical correction to the amendatory instruction so that it accurately reflects the amendments carried out.

DATES: Effective March 18, 2013.

FOR FURTHER INFORMATION CONTACT: G. Richard Gold, Attorney, Office of the General Counsel, Federal Trade Commission, 600 Pennsylvania Avenue NW., Washington, DC 20580, (202) 326-3355.

SUPPLEMENTARY INFORMATION: An amendatory instruction in our final rule entitled “Freedom of Information Act” published February 28, 2013 (78 FR 13472) erroneously included a paragraph that was not affected. In the amendments to § 4.9 of the Commission's Rules of Practice, instruction 2 included paragraph (b)(9) in its revisions. That paragraph was not revised by the rule. Therefore, we issue the following correction to the February 28 final rule:

1. In the Federal Register of Thursday, February 28, 2013, in FR Doc. 2013-04479, on page 13474, in the first column, amendatory instruction 2 is correctly revised to read as follows: “2. Amend § 4.9 by revising paragraphs (a)(3), (a)(4)(i), (a)(4)(iii), (b)(3)(iii), (b)(10)(xiv) and (xv), and by adding (b)(10)(xvi) to read as follows:”

Richard C. Donohue,
Acting Secretary.

[FR Doc. 2013-05619 Filed 3-15-13; 8:45 am]

BILLING CODE 6750-01-P